DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS)

Time and Date: November 16, 2005, 9 a.m.-3:30 p.m. November 17, 2005, 10 a.m.-2 p.m.

Place: Hubert H. Humphrey Building, 200 Independence Avenue SW., Room 705A, Washington, DC 20201.

Status: Open.

Purpose: At this meeting the Committee will hear presentations and hold discussions on several health data policy topics. On the morning of the first day the Committee will hear updates and status reports from the Department on various topics including activities of the HHS Data Council, and updates on HIPAA implementation including data standards, the E-Prescribing Final Rule, Privacy Rule compliance, an the Notice of Proposed Rulemaking for health claims attachments. They will also hear an update on activities of the Office of the National Coordinator for Health Information Technology. In the afternoon the Committee will be updated on the status of activities being conducted by the Subcommittee on Privacy and Confidentiality on the National health Information Network, and hear a presentation on secondary uses of clinical data.

On the morning of the second day the Committee will hear a presentation on health statistics and the national health information infrastructure and a discussion of data release and confidentiality issues led by a representative of the National Center for Health Statistics' Board of Scientific Counselors. In the afternoon, there will be reports from the Subcommittees and a discussion of agendas for future Committee meetings.

The times shown above are for the full Committee meeting. Subcommittee breakout sessions are scheduled for late in the afternoon of the first day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: October 14, 2005.
James Scanlon,
Deputy Assistant Secretary for Planning and Evaluation (OSDP), Office of the Assistant Secretary for Planning and Evaluation.

[FR Doc. 05-20990 Filed 10-19-05; 8:45am]

BILLING CODE 4151-05-M